ENVIRONMENTAL PROTECTION AGENCY

40 CFR Part 300

[EPA-HQ-SFUND-1986-0005; FRL-9288-9]

National Oil and Hazardous Substances Pollution Contingency Plan; National Priorities List: Deletion of the Norwood PCBs Superfund Site

AGENCY: Environmental Protection Agency.

ACTION: Direct final rule.

SUMMARY: The Environmental Protection Agency (EPA) Region 1 is publishing a direct final Notice of Deletion of the Norwood PCBs Superfund Site (Site), located in Norwood Massachusetts from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the Commonwealth of Massachusetts, through the Massachusetts Department of Environmental Protection (MassDEP), because EPA has determined that all appropriate response actions under CERCLA, other than operation, maintenance, and five-year reviews have been completed. However, this deletion does not preclude future actions under CERCLA.

DATES: This direct final deletion is effective May 31, 2011 unless EPA receives adverse comments by May 2, 2011. If adverse comment(s) are received, EPA will publish a timely withdrawal of the direct final deletion in the Federal Register informing the public that the deletion will not take effect.

ADDRESSES: Submit your comments, identified by Docket ID No. EPA-HQ-SFUND-1986-0005, by one of the following methods:

• http://www.regulations.gov. Follow on-line instructions for submitting comments.

• E-mail: keefe.daniel@epa.gov.

• Fax: 1-617-918-0327.

• Mail: Daniel Keefe, U.S. EPA Remedial Project Manager, 5 Post Office Square (OSRR07-1), Boston, MA 02109-3912.

• Hand delivery to the following address: Daniel Keefe, 5 Post Office Square (OSRR07-1), Boston, MA 02109. Such deliveries are only accepted during the EPA's normal hours of operation (9 a.m. to 5 p.m.), and special arrangements should be made for deliveries of boxed information.

Instructions: Direct your comments to Docket ID No. EPA-HQ-SFUND-1986-0005. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at either:

EPA Region 1 Record Center, 5 Post Office Square, Boston, MA 02109, Phone: 1-617-918-1440, Hours: Mon-Fri 8 a.m. to 5 p.m.

Norwood Morrill Memorial Library, 33 Walpole Street, Norwood, MA, Phone: 781-769-0200, Hours: Mon-Thurs 9 a.m. to 9 p.m.; Friday 10 a.m. to 5 p.m.; Saturday 9 a.m. to 5 p.m.; Sunday 2 a.m. to 5 p.m.

FOR FURTHER INFORMATION CONTACT: Daniel Keefe, Remedial Project Manager, U.S. Environmental Protection Agency Region 1; 5 Post Office Square, Boston, MA 02109; Mailcode: OSRR07-01, or by phone at (617) 918-1327, or by e-mail at keefe.daniel@epa.gov.

SUPPLEMENTARY INFORMATION:

Table of Contents

I. Introduction

II. NPL Deletion Criteria

III. Deletion Procedures

IV. Basis for Site Deletion

V. Deletion Action

I. Introduction

EPA Region 1 is publishing this direct final Notice of Deletion for the Norwood PCBs Superfund site (Site) thus removing the Site from the National Priorities List (NPL). The NPL constitutes Appendix B of 40 CFR part 300, which is the National Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remain eligible for Fund-financed remedial actions if future conditions warrant such actions.

Because EPA considers this action to be noncontroversial and routine, this action will be effective May 31, 2011 unless EPA receives adverse comments by May 2, 2011. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Norwood PCBs Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERLA Section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the Commonwealth of Massachusetts prior to developing this direct final Notice of Deletion and the Notice of Intent to Delete co-published today in the “Proposed Rules” section of the Federal Register.

(2) EPA has provided the Commonwealth thirty (30) working days for review of this Notice and the parallel Notice of Intent to Delete prior to their publication today, and the Commonwealth, through the MassDEP, has concurred on the deletion of the Site from the NPL.

(3) Concurrently with the publication of this direct final Notice of Deletion, a notice of the availability of the parallel Notice of Intent to Delete is being published in a major local newspaper, the Norwood Record. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Norwood PCBs Superfund Site (CERCLIS No. MAD980670566) is located in Norwood, Massachusetts, approximately 14 miles southwest of the City of Boston. Land use consists predominately of industrial/commercial properties and associated parking areas in an industrial/commercial area. To the north, the Site is bordered by residential properties, to the east by Route 1 and the Dean Street access road, to the south by Dean Street, and to the west by residential properties. The northern portion of the Site consists of a portion of Meadow Brook.

Contamination originated from disposal practices of the parties who owned the property or operated businesses on the Site (the Facility). The former on-site building was constructed in 1942 by Bendix Aviation Corporation, which produced navigational control systems for the U.S. Navy. In October 1947, the land was purchased by Tobe Deutschman Corporation, which manufactured electrical equipment. The property was purchased in 1956 by Cornell-Dubilier Electronics, Inc., which also manufactured electrical equipment at the facility. In January 1960, the property was owned by Maryvale Corporation, and was then purchased by the Friedland brothers. The Friedland brothers leased the property to Federal Pacific Electric Company, which held the lease on the property until October 1979. During the period from 1960 to 1979, Federal Pacific Electric Company operated a business at the Site, and sublet portions of the facility to Cornell-Dubilier Electronics, Inc. and to Arrow Hart Corporation, which also manufactured electrical equipment. In 1979, the Site was subdivided. The northeastern portion of the Site, approximately 9 acres, was purchased by Grant Gear Realty Trust, which leased the facility to Grant Gear Works, Inc., to produce gears for various industries. The southern and western portions of the Site, approximately 16 acres, were purchased by Paul Birmingham, Paul Reardon, and Jack Reardon who further subdivided the property into seven lots and added a new private way (Kerry Place). On the east site of the Site runs Meadow Brook through a property owned by the Town of Norwood which contains a town sewer easement.

In 1983, MassDEP received a call from an abutting resident reporting past industrial waste dumping and contamination in the then vacant field of Kerry Place. As a result, an initial investigation was conducted which confirmed the presence of PCBs. EPA contractors assisted MassDEP with the collection of samples and based on these findings, it was determined that an emergency removal was warranted. EPA removed and disposed (off-site) 518 tons of contaminated soil. During the removal, water samples taken from the storm drain system behind the Grant Gear Building indicated low levels of PCBs. In October 1984, the Site was proposed for inclusion on the NPL (49 FR 40320) and was formally added on June 10, 1986 (51 FR 21054).

Remedial Investigation and Feasibility Study (RI/FS)

The Remedial Investigations/Feasibility Study (RI/FS) was completed in 1989. During the investigation the following media were evaluated: air, surface soil, subsurface soil, dredge piles, Meadow Brook sediments, surface water, groundwater, and the Grant Gear Building. The highest concentration of PCBs in soil was in a former disposal area in the western and northern portions of the Grant Gear property where up to 26,000 parts per million (ppm) were identified. The estimated total volume of contaminated soil in both saturated and unsaturated soil with PCB concentrations greater than 10 ppm was 31,550 cubic yards (yd³). Soils were also found to be contaminated, although to a lesser extent, with VOCs, SVOCs and metals.

Contaminants released to Meadow Brook included PCBs, VOCs, and metals. Within sediments, the primary transport mechanism for PCBs was the movement of sediment to which the PCBs are attached. PCBs detected in sediment ranged up to 1,100 ppm in Meadow Brook and up to 3,850 ppm in former sediment dredge piles.

With regard to groundwater, contaminants include PCBs, VOCs and SVOCs with the highest concentrations generally being detected west of the former Grant Gear building. Groundwater contamination was detected in both overburden and bedrock aquifers with trichloroethylene having the highest concentration (1,800 parts per billion (ppb)) in overburden and vinyl chloride in bedrock (110 ppb).

Selected Remedy

In September 1989, EPA issued a ROD for the Norwood PCBs site. The Remedial Action Objectives outlined in the 1989 ROD to address contaminated buildings, soils, sediments, and groundwater at the Site are as follows:

• To minimize the continued release of hazardous substances to Meadow Brook.

• To reduce risks to workers associated with direct contact with PCB-contaminated surfaces.

• To reduce risks to workers associated with inhalation of airborne PCBs within the Grant Gear Building.

• Reduce risks posed by direct contact with soil contaminated with PCBs and P AHs.

• Reduce risks posed by incidental ingestion of soils contaminated with PCBs and PAHs.

• Mitigate any future impacts of such remedial activities to Meadow Brook and the surrounding wetland areas.

• Minimize migration of VOCs to groundwater.

• Reduce, within a reasonable time frame, risks to workers posed by inhalation of airborne contaminants volatilized from groundwater.

• Reduce risks to human health and the environment from current and future migration of contaminants in groundwater.

Major components of the 1989 remedy include:

• Decontamination of surfaces of machinery, equipment, and floors within the plant areas of the Grant Gear Building;

• Excavation of approximately 34,000 cubic yards of PCB-contaminated soils and sediments and treatment by solvent extraction;

• Backfilling of soils and sediments to be covered with asphalt or clean fill;

• Construction and operation of a Groundwater Treatment Plant (GWTP) to remediate groundwater;

• Restoration of impacted wetlands;

• Long-term monitoring; and

• Institutional controls (ICs)

As a result of higher than anticipated solvent extraction costs and logistical problems with its implementation, and in consideration of the likely commercial/industrial reuse of the property, EPA issued a ROD Amendment in May 1996. The ROD Amendment included the demolition of the Grant Gear building, the excavation and consolidation of contaminated soils and sediments on site, and the construction of a permanent cap. Soil and sediment clean-up goals were further modified as discussed in the Cleanup Goals section.

In accordance with EPA's 1996 Final Ground Water Use and Value Determination Guidance, in May 2001, MassDEP submitted a “low” use and value determination for the groundwater at and in the vicinity of the Site. This determination was made based on the aquifer's classification as a non-potential drinking water source area, as well as the fact that nearby residential and commercial properties are supplied by public, municipal drinking water sources.

As a result of MassDEP's “low” use and value determination, the contaminant exposure pathways and exposure assumptions used for the ROD were re-evaluated. Accordingly, supplemental risk assessment activities were initiated in 2001 and were completed in 2004. As the result of these assessments, revised groundwater clean-up levels, or risk-based action levels (RBALs), were calculated. These were subsequently adopted as groundwater Cleanup goals in a 2005 Explanation of Significant Differences (ESD). Current groundwater clean-up goals are listed in the Clean-up Goal section.

Response Actions

Remedial activities were completed in a single Operable Unit (OU); however, the activities consisted of the following phases: Phase 1 was completed by the EPA and consisted of groundwater treatment plant construction and operation; Phase 2 was conducted by the Settling Parties and consisted of building demolition; Phase 3 was conducted jointly by the Settling Parties and EPA and consisted of the construction of a cap and cover over consolidated contaminated soil and sediments (Phase 3A—Settling Party-lead) and Meadow Brook Restoration (Phase 3B—EPA lead).

For EPA-lead activities, such as the GWTP, the design criteria were set forth in the final “Plans and Specifications for the Groundwater Remediation at the Norwood PCB Superfund Site” prepared by Metcalf & Eddy, Inc. on behalf of EPA in 1994. Meadow Brook Restoration Phase (Phase 3b) was completed in accordance with a UASCE Statement of Work (SOW), which included design details provided by the Town of Norwood as part of its flood control/flood mitigation project. Design criteria for the Settling Party-lead cleanup work (to address risks associated with the former Grant Gear facility and its operations) were set forth in the Statement of Work (SOW) which was part of a 1996 Consent Decree with former owners and operators of the Facility (hereafter referred to as the “Facility CD”) as well as the Remedial Action Work Plans submitted by the Settling Parties and approved by EPA consistent with the SOW.

Sediment

The Settling Parties performed excavation of sediments in Meadow Brook from April 1997 through July 1998. The Meadow Brook remediation was divided into three sections referred to as Reach 1, 2, and 3. The excavation of Reach 1 was completed with excavation limits determined by the Town of Norwood as this section of the Brook was also targeted for sediment removal as part of the Town's flood control/flood mitigation project. Following the excavation of Reach 1 to grades provided by the Town, an area of stained soils was evident at/below a former drainage outfall pipe. Based on the analytical results showing PCBs greater than 1 ppm, a limited removal of the stained sediment was performed. In total, approximately 2,500 yd³ of material was excavated from Reach 1including 85 yd³ of stained soil.

The excavation of Reaches 2 and 3 was performed in two phases—the first consisted of sediment removal from the arched culvert section at Dean Street, and the second consisted of sediment removal from the box culvert section. Once clean-up levels (1 ppm in sediment) were achieved, sediment removal activities were terminated. Approximately 2,300 yd³ of material was excavated from these reaches.

Soil

Soils with PCB concentrations exceeding the appropriate clean-up levels were excavated from several on-property areas. In addition, a trichlorobenzene (TCB)-contaminated soil area was identified west of the former Grant Gear building; this was also excavated. Approximately 5,900 yd³ of PCB-contaminated soil was excavated from the North Cover Area and stockpiled for placement under the cap/cover. Approximately 2,600 yd³ of PCB-contaminated soil was excavated from the South Cover Area and stockpiled for placement under the cap/cover.

With regard to off-property soils, several areas were identified with PCB concentrations exceeding the appropriate clean-up levels. During the remediation of Reach 1 of Meadow Brook, PCB-contaminated soils were identified along the North Bank Wooded Area. Approximately 100 yd³ of soil was excavated and stockpiled for placement under the cap/cover. In addition, PCB-contaminated soils were discovered along the South Bank Wooded Area resulting in the excavation of approximately 780 yd³ of soil.

Beginning in 1997, the stockpiled soils were further consolidated on-site. Materials with PCB concentrations exceeding the risk-based, site-specific industrial/commercial clean-up levels (of 70 ppm) were placed within the limits of the asphalt cap. Materials with PCB concentrations below clean-up level of 70 ppm, but above 40 ppm, were placed within the limits of the cover areas. During soil excavation and consolidation, on-site underground storage tanks (USTs) were also removed before the cap and cover were installed. After the PCB-contaminated materials had been placed, the areas were prepared for the installation of the cap and covers. Once the fill was placed to the appropriate grade 12 inches below the final grade in capped and covered areas, a non-woven geotextile filter fabric was laid across the areas. Subsequently, an asphalt Cap or gravel cover was installed in the appropriate areas.

Groundwater

The selected remedy for the management of groundwater migration included the collection of groundwater using an extraction system consisting shallow extraction wells and the construction of a GWTP consisting of carbon adsorption, air stripping, precipitation, and filtration. The GWTP was constructed in 1995 and deemed operational and functional in February 1997.

The groundwater treatment system was operational until it was shut down (at that time temporarily) in June of 2000. As a result of the revised groundwater classification and “low” use and value ascribed by MassDEP in 2001, groundwater cleanup goals were further modified in an 2005 ESD. Subsequently, EPA determined that no further groundwater clean-up was warranted as revised clean-up goals were being met. The GWTP was dismantled in March 2008 just prior to property redevelopment.

Institutional Controls

As required by a Prospective Purchaser Agreement (PPA) entered in 1997 between the owner and the EPA, the Owner updated and recorded (with the Norfolk County Registry of Deeds) updated ICs in the form of a Grant of Environmental Restrictions and Easement (GERE). The GERE was recorded in March 2008 and entered into Book No. 25628, Page No. 534. The GERE restricts certain activities such as day care, residential use, and groundwater withdrawal (among others) and permits other activities, such as excavation, provided certain safety procedures are followed and approvals obtained. Under the terms of a 1997 Consent Decree (hereafter referred to as the “Meadow Brook CD”) the Town of Norwood also established ICs on the Meadow Brook parcel (recorded at Book No. 26407, Page No. 129).

Cleanup Goals

The cleanup goals for PBCs in soil and sediment were modified as a result the 1996 ROD Amendment (see table below):

Property | 1989 ROD | 1996 ROD-A
Grant Gear Property | 10 ppm | 40 ppm surface. 70 ppm subsurface.
Adjacent Commercial Property | 25 ppm | 40 ppm surface. 70 ppm subsurface.
Soil between Grant Gear and Meadow Brook | 1 ppm | 10 ppm surface. 50 ppm subsurface.
Sediment | 1 ppm | 1 ppm.
Residential Properties | 1 ppm | No action required.

Contaminated soil and sediment were excavated and consolidated on property for placement within the cap or cover depending on the level of contamination. Post-excavation sampling was conducted and described in the remedial action Remediation Completion Report prepared by consultants on behalf of the Settling Parties.

With regard to Groundwater, as described previously, the Commonwealth of Massachusetts classified groundwater beneath and adjacent to the site as “Low” use and value. A “Low” designation indicates that it is not a future drinking water source. Accordingly, change to the original GW cleanup goals (which were based on MCLs) were documented in the 2005 ESD and are summarized below:

Contaminant | 1989 ROD | 2005 ESD
Trichloroethene | 5 ppb | 108 ppb.
Tetrachloroethene | 5 ppb | 37 ppb.
Vinyl Chloride | 2 ppb | 310 ppb.
Total 1,2-dichloroethenes | 175 ppb | 3660 ppb.
1,2,4-trichlorobenzene | 350 ppb | 34 ppb.
1,4-dichlorobenzene | 5 ppb | 4.6 ppb.

EPA conducted quarterly groundwater monitoring from April 1996 until October 2002 which coincided with the period of GWTP operation and shortly thereafter. Surface water samples were also periodically collected from Meadow Brook. Several years after plant shutdown (i.e. in 2005), EPA completed a final comprehensive groundwater evaluation and the resulting report documented no ROD-specified contaminants in groundwater above their respective groundwater clean-up goals established in the ESD. Having confirmed that all groundwater clean-up goals were being met (approximately 5 years after GWTP shut down), it was determined by USEPA and MassDEP that the GWTP was no longer necessary.

Operation and Maintenance

As described previously, remedial activities were completed in 3 phases (the third phase consisting of both a Phase 3A and Phase 3B).

Phase 1—Groundwater Treatment Plant

Based on achieving revised groundwater clean-up goals modified in the 2005 ESD, in 2006, EPA determined that the GWTP had reached the end of its “useful life” for all uses relative to site response activities. Accordingly, EPA proceeded to remove chemical processing equipment from the GWTP and decommission extraction and monitoring wells that were not part of the long-term monitoring. In a letter dated April 5, 2007, EPA provided notice to the owner that, as per the PPA, EPA had completed its decommissioning activities. Subsequently, on May 16, 2007, EPA received notice from the owner of his intention not to reuse the GWTP building. A work plan for its dismantling was submitted and approved in September 2007. The building was removed in the Spring of 2008. No long-term O&M of the treatment plant is required. On-going evaluation of groundwater is provided by groundwater samples collected by the Settling Parties to the Facility CD as part of their on-going O&M of the Cap and Covers (see Phase 3A below).

Phase 2—Building Demolition

The building demolition phase took place immediately prior to and in connection with the relocation of soil and sediment, and the construction of the cap and covers. Accordingly there is no O&M associated with this RA.

Phase 3A—Cap and Covers

The O&M and Environmental Monitoring Plans (EMP) were approved in November 2004. Consistent with these plans, the Settling Parties to the Facility CD annually inspect the cap and covers. As a result of redevelopment, certain cover areas have been replaced with a new type of cover (referred to as “foundation cover”). In addition, certain monitoring wells selected for long-term monitoring have been re-located. Accordingly, revised O&M and EMP plans were submitted in April 2010 and subsequently approved in January 2011.

Phase 3B—Meadow Brook Restoration

At the completion of this restoration, and in light of design details provided by the Town of Norwood to insure consistency with other flood mitigation projects, an Operation Manual was provided to the Town of Norwood in 2000. The Operation Manual described recommended procedures and inspections to ensure that the completed project continues to function as designed and that the flood control infrastructure remains in place to prevent the release of any subsurface contamination.

Institutional Controls

EPA and the State will periodically (not less than annually) inspect the property to insure that usage has not deviated from those allowed by the ICs. Under the GERE recorded on the Facility property, the landowner is obligated to follow procedures to ensure that Site redevelopment does not damage components of the remedy. On the Meadow Brook property, the Town is obligated under the terms of the Meadow Brook CD to ensure that no release of subsurface contamination occurs either in its maintenance of flood control structures or its sewer easement through the area. The status and protectiveness of these IC will be summarized in successive five year reviews.

Redevelopment

In 1997, the 9-acre Grant Gear property was sold and the new owner obtained a PPA from EPA which required the owner to guarantee continued site access, dismantle the Groundwater Treatment Plant (GWTP) building (when it had reached the end of its “useful life”), as well as record updated Institutional Controls. Subsequently (early 2000s), the owner entered a 99-year ground lease with a commercial/retail developer. In 2003, the developer proposed a large (> 150,000 square feet) redevelopment; however, this would have been situated predominantly over the remedial cap and would have required excavation into contaminated soil. Based on local concerns associated with disturbing the capped area, traffic, and other local land use issues, this redevelopment was not approved by the Town.

Thus, in 2007, a different commercial/retail developer proposed modifications to the original redevelopment plan including the construction of buildings around the footprint of the capped portion of the site. This reuse would ensure that none of the highest-contaminated material would be exposed. The revised work plan for redevelopment (WPR) was approved by EPA and MassDEP in March 2008, after which the developer received the necessary Town approvals. Construction ensued in May 2008 and was substantially complete in October 2008.

As a precaution and to ensure against the accumulation of vapors from groundwater to indoor air, a passive vapor mitigation system was required and installed in each of the commercial building. As required in the WPR, post construction and prior to occupancy, sub-slab air samples were collected and analyzed and a risk assessment completed. Based on this analysis, the risks were found to be acceptable (i.e., less than 1 × 10−⁶) for a future commercial worker. Moreover, based on local zoning as well as restriction recorded against the property (described further below), residential use is prohibited. In the future, as necessary and pending future monitoring results, the sub-slab ventilation systems can be made to be actively vented with the addition of blowers or vacuum pumps.

Presently, two buildings totaling 56,000 square feet of commercial/retail space are situated on the Norwood PCBs site. The cap, under which is located the highest concentrations of PCBs, serves as a central parking lot for the development. To date, the development is not occupied.

Five-Year Review

Since hazardous substances will remain on the site above levels allowing for unlimited use and unrestricted exposure, statutory five year reviews have been conducted by EPA pursuant to CERCLA Section 121 C as provided in OSWER Directive 9355.7-03B-P, Comprehensive Five-Year Review Guidance.

The First Five-Year Review, dated 30 December 1999, concluded that the remedy was protective and recommended that, in light of the State's reclassification of groundwater, a risk assessment be competed. Upon attaining revised risk-based clean-up levels, groundwater treatment was no longer required, but monitoring was continued to verify that revised groundwater standards would continue to be met.

The Second Five-Year Review, dated 29 December 2004, concluded that the remedy was short-term protective of human health and the environment based on continued compliance with new clean-up goals. In addition, O&M plans were submitted for both the Facility and Meadow Brook properties. The 2004 review also concluded that in order for the remedy to remain protective in the long-term, the following actions needed to be taken: 1. updated institutional controls needed to be recorded, and 2. Operation and Maintenance (including monitoring) needed to be conducted regularly [both of which have since occurred].

The Third Five-Year Review, completed in December 2009, concluded that the remedy at the Norwood PCBs Site continues to protect human health and the environment through meeting groundwater clean-up goals, the establishment of institutional controls, and the maintenance of remedy infrastructure concurrently during redevelopment of the Site. The 2009 Five Year Review also concluded that in order for the remedy to remain protective, the Operation & Maintenance (O&M) Plan and Environmental Monitoring Plan (EMP) must be updated to reflect changes in site conditions as a result of the redevelopment. These have been updated and approved (January 2011).

The Fourth Five-Year Review is due in December 2014.

Community Involvement

EPA community participation at the site has taken many forms. In addition to statutorily-required meetings and public hearings associated with the 1989 ROD and 1996 ROD Amendment, EPA has participated in numerous other outreach activities. EPA conducted public outreach during each of the three five-year reviews. EPA prepared updated Fact Sheets in 2003, 2005, and 2007. The Fact Sheets were distributed to mailing list recipients as well as hand-distributed to all abutting residences and business owners. Extra copies of the fact sheets have been made available to the public at the following locations: the Norwood Public library and Norwood Town Hall.

In addition, EPA has attended numerous Public Meetings during the site redevelopment approval process. All Community Involvement activities required and in association with this proposed deletion have been completed, including the publication of a notice in a local newspaper of general circulation regarding this proposed deletion and the availability of documents located in the Deletion Docket.

Determination That the Site Meets the Criteria for Deletion in the NCP

The NCP specifies that EPA may delete a site from the NPL if “all appropriate responsible parties or other persons have implemented all appropriate response actions required” or “all appropriate fund-financed response under CERCLA has been implemented, and no further response action by responsible parties is appropriate”. EPA, with the concurrence of the Commonwealth of Massachusetts through the MassDEP by a letter dated [Date], believes these criteria for deletion have been satisfied. Therefore, EPA is proposing the deletion of the site from the NPL. All of the completion requirements for the site have been met as described in the Norwood PCBs Final Close Out Report (FCOR) dated September 2009.

V. Deletion Action

The EPA, with concurrence of the Commonwealth of Massachusetts through the MassDEP has determined that all appropriate response actions under CERCLA, other than operation and maintenance, routine monitoring, and five year reviews, have been completed. Therefore, EPA is deleting the Site from the NPL.

Because EPA considers this action to be noncontroversial and routine, EPA is taking it without prior publication. This action will be effective May 31, 2011 unless EPA receives adverse comments by May 2, 2011. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: March 17, 2011.
Ira W. Leighton,
Acting Regional Administrator, EPA Region 1.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B to Part 300 [Amended]

2. Table 1 of Appendix B to part 300 is amended by removing ”Norwood PCBs”, “Norwood, MA”.

[FR Doc. 2011-7775 Filed 3-31-11; 8:45 am]

BILLING CODE 6560-50-P